DEPARTMENT OF ENERGY

Federal Energy Regulatory Commission

[Project No. 2677-019]

City of Kaukauna, WI; Notice of Staff Participation in Meeting

November 14, 2008.

On December 1, 2008, Office of Energy Projects staff will participate by teleconference in a work group meeting to discuss information needs for an assessment of recreational boating flows in the bypassed reach of the Badger Development for the relicensing of the Badger-Rapide Croche Hydroelectric Project (FERC No. 2677-019). The meeting will begin at 1 p.m. CST.

For parties wishing to participate in the teleconference, the call-in number is 608-443-0390 (PIN# 7608). For further information please contact Arie DeWaal, Project Manager, Mead & Hunt, Inc., at (608) 273-6380, or e-mail at arie.dewaal@meadhunt.com, or John Smith, FERC, at (202) 502-8972, or e-mail at john.smith@ferc.gov.

Kimberly D. Bose,
Secretary.

[FR Doc. E8-27567 Filed 11-19-08; 8:45 am]

BILLING CODE 6717-01-P